INTERNATIONAL TRADE COMMISSION

[Investigations Nos. 701-TA-422-425 and 731-TA-964-983 (Preliminary)]

Certain Cold-Rolled Steel Products From Argentina, Australia, Belgium, Brazil, China, France, Germany, India, Japan, Korea, Netherlands, New Zealand, Russia, South Africa, Spain, Sweden, Taiwan, Thailand, Turkey, and Venezuela

Determinations

On the basis of the record ¹ developed in the subject investigations, the United States International Trade Commission determines, pursuant to section 703(a) of the Tariff Act of 1930 (19 U.S.C. 1671b(a)) (the Act), that there is a reasonable indication that an industry in the United States is materially injured ² or threatened with material injury ³ by reason of imports from Argentina, Brazil, France, and Korea, of certain cold-rolled steel products, provided for in headings 7209, 7210, 7211, 7212, 7225, and 7226 of the Harmonized Tariff Schedule of the United States, that are alleged to be subsidized by the Governments of Argentina, Brazil, France, and Korea. The Commission further determines, pursuant to section 733(a) of the Act (19 U.S.C. 1673b(a)) (the Act), that there is a reasonable indication that an industry in the United States is materially injured ² or threatened with material injury ³ by reason of such imports from Argentina, Australia, Belgium, Brazil, China, France, Germany, India, Japan, Korea, the Netherlands, New Zealand, Russia, South Africa, Spain, Sweden, Taiwan, Thailand, Turkey, and Venezuela that are alleged to be sold in the United States at less than fair value (LTFV).

¹ The record is defined in sec. 207.2(f) of the Commission's Rules of Practice and procedure (19 CFR 207.2(f)).

² Commissioners Bragg, Miller, and Devaney determines that there is a reasonable indication that an industry in the United States is materially injured.

³ Chairman Koplan, Vice Chairman Okun, and Commissioner Hillman determine that there is a reasonable indication that an industry in the United States is threatened with material injury.

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce of affirmative preliminary determinations in the investigations under sections 703(b) and 733(b) of the Act, or, if the preliminary determination is negative, upon notice of an affirmative final determination in that investigation under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 28, 2001, petitions were filed with the Commission and Commerce by Bethlehem Steel Corporation, Bethlehem, PA; LTV Steel Co., Inc., Cleveland, OH; National Steel Corporation, Mishawaka, IN; ⁴ Nucor Corporation, Charlotte, NC; Steel Dynamics Inc., Butler, IN; United States Steel LLC, Pittsburgh, PA; WCI Steel, Inc., Warren, OH); and Weirton Steel Corporation, Weirton, WV; ⁵ alleging that an industry in the United States is materially injured or threatened with material injury by reason of subsidized or LTFV imports of certain cold-rolled steel products from Argentina, Australia, Belgium, Brazil, China, France, Germany, India, Japan, Korea, the Netherlands, New Zealand, Russia, South Africa, Spain, Sweden, Taiwan, Thailand, Turkey, and Venezuela. Accordingly, effective September 28, 2001, the Commission instituted countervailing duty investigations Nos. 701-TA-422-425 (Preliminary) and antidumping investigations Nos. 731-TA-964-983 (Preliminary).

⁴ National is not a petitioner with respect to Japan.

⁵ Weirton is not a petitioner with respect to the Netherlands.

Notice of the institution of the Commission's investigations and of a public conference to be held in connection therewith was given by posting copies of the notice in the Office of the Secretary, U.S. International Trade Commission, Washington, DC, and by publishing the notice in the Federal Register of October 5, 2001 (66 FR 51069). The conference was held in Washington, DC, on October 19, 2001, and all persons who requested the opportunity were permitted to appear in person or by counsel.

The Commission transmitted its determinations in these investigations to the Secretary of Commerce on November 13, 2001, and will transmit its views on November 20, 2001. The views of the Commission are contained in USITC Publication 3471 (November 2001), entitled Certain Cold-Rolled Steel Products from Argentina, Australia, Belgium, Brazil, China, France, Germany, India, Japan, Korea, Netherlands, New Zealand, Russia, South Africa, Spain, Sweden, Taiwan, Thailand, Turkey, and Venezuela: Investigations Nos. 701-TA-422-425 and 731-TA-964-983 (Preliminary).

By order of the Commission.
Issued: November 13, 2001.
Donna R. Koehnke,
Secretary.

[FR Doc. 01-28813 Filed 11-16-01; 8:45 am]

BILLING CODE 7020-02-M